DEPARTMENT OF HEALTH AND HUMAN SERVICES

[Document Identifier: OS-0990-New; 60-Day Notice]

Agency Information Collection Request. 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60-days.

Proposed Project: Prevention and Wellness-Leveraging National Organizations OMB No. 0990-New—Office of Public Health and Science

Abstract: The Office of Public Health and Science is requesting an approval by OMB on a new collection. The American Recovery and Reinvestment Act (ARRA) Prevention and Wellness-Leveraging National Organizations is a cooperative agreement program authorized under 42 U.S.C. 300k-1, 300, section 1701 of the Public Health Service Act, as amended. The funding opportunity focuses on two categories of activities:

• Category A: Obesity prevention through improved nutrition and increased physical activity

• Category B: Tobacco prevention and control

The National Organizations who receive funding will be supporting Communities Putting Prevention to Work (CPPW)-funded communities by providing expertise and technical assistance to help implement select MAPPS (Media, Access, Point of Purchase/Promotion, Pricing, and Social Support and Services) strategies through national organizations' systems and networks. The National Organizations will work to sustain community prevention efforts beyond Recovery Act CPPW funding and support the National Prevention Media Initiative through co-branding and augmenting HHS-developed media campaigns in communities.

The outcome measures that will be collected from funded National Organizations include approval/enactment of MAPPS-related policy, systems, and environmental change in physical activity, nutrition, and tobacco in funded communities. Since a critical component of the National Organizations is to support and assist CPPW-funded communities with their expert resources, the National Organizations and the CPPW-funded communities will share ownership of the same outcome measures. Because the National Organizations and their local affiliates have a distinct supporting role in these community-wide efforts, the output measures track the kinds of added-value to be derived from involvement of the National Organizations and its local affiliates in the community-wide efforts which should help drive the outcome measure.

Estimated Annualized Burden Table
Forms | Type of respondent | Number of respondents | Number of responses per respondent | Average burden (in hours) per response | Total burden hours
National Organizations Measures Instrument | Cooperative Agreement recipients—National Organizations | 10 | 4 | 2 | 80

Seleda Perryman,
Office of the Secretary, Paperwork Reduction Act Clearance Officer.

[FR Doc. 2010-16873 Filed 7-9-10; 8:45 am]

BILLING CODE 4150-28-P